DEPARTMENT OF ENERGY

Federal Energy Regulatory Commission

[Docket No. RM05-1-000]

Regulations Governing the Conduct of Open Seasons for Alaska Natural Gas Transportation Projects; Notice of Rescheduled Alaska Natural Gas Transportation Projects Open Season Pre-Filing Workshop

February 17, 2010.

On February 22, 2010, the Staff of the Federal Energy Regulatory Commission (FERC) will hold a workshop on the procedures and process for holding and commenting on an open season for an Alaska Natural Gas Transportation Project. The Workshop is being held at the Commission's headquarters in Washington and has been rescheduled from the previous date of February 11, 2010 due to the weather emergency closure of the Commission's offices.

In 2005, in the above-referenced docket, FERC enacted regulations under the Alaska Natural Gas Pipeline Act which established the procedures for conducting open seasons for the purpose of making binding commitments for the acquisition of capacity on Alaska natural gas transportation projects. TransCanada Alaska Company LLC (TC Alaska) has recently filed its request for approval of its Open Season plan for its Alaska Pipeline Project in Docket No. PF09-11-001. Denali—The Alaska Gas Pipeline LLC has publicly stated that it intends to hold an open season for its project in 2010.

Under FERC's open season regulations, prior to conducting an open season for an Alaskan natural gas transportation project, each project sponsor is required to submit a detailed open season plan to FERC. After receiving the project sponsor's open season plan, FERC will issue a notice requesting public comments on the open season plan and explain the procedure for submitting such comments. Absent unusual circumstances, FERC will act on the open season plan within 60 days of its submission by the project sponsor.

Both of these project sponsors have initiated FERC's pre-filing process, which is typically focused on FERC's environmental review of a project. However in this instance, the pre-filing process also includes FERC's review, approval, and oversight of the project sponsors' open season. FERC Staff is holding this Open Season Pre-Filing Workshop to provide interested parties an opportunity to learn about and discuss the procedures and process for commenting upon and holding an open season.

The workshop will be held on February 22, 2010, from 1 p.m. to 4 p.m. (EST) at: Federal Energy Regulatory Commission, 888 1st Street, NE.—Room 3M-2 A&B, Washington, DC 20426.

All interested parties may attend. The agenda for the Open Season Pre-Filing Workshop is attached. There will be no discussion of TC Alaska's filing in Docket No. PF09-11-001, or any other aspect of the proposed Alaska pipeline projects. Rather, the Workshop will focus on the requirements of the Commission's regulations and procedures and process for commenting upon and holding an open season. In order to ensure that questions could be appropriately answered, it was previously requested that interested parties provide any questions in advance to Commission Staff and these questions have been added to the Agenda without attribution. Any further new questions or follow-up questions will also be entertained at the Workshop.

The Workshop will not be transcribed by the FERC Staff. Telephone participation will be available; by calling:

Conference number: (888) 566-6129

Participant passcode: 43634

For security reasons, the passcode will be required to join the call. Restrictions may exist when accessing freephone/toll free numbers using a mobile telephone.

For additional information concerning this event, please contact Richard Foley at (202) 502-8955 or Mary O'Driscoll at (202) 502-8680.

Kimberly D. Bose,
Secretary.

[FR Doc. 2010-3616 Filed 2-23-10; 8:45 am]

BILLING CODE 6717-01-P